DEPARTMENT OF THE INTERIOR

Bureau of Land Management

[OR-958-1430-ET; GP0-0014; OR-54087]

Public Land Order No. 7446; Withdrawal of Public Lands for the Desert Springs Seed Orchard; Oregon

AGENCY: Bureau of Land Management, Interior.

ACTION: Public Land Order.

SUMMARY: This order withdraws 80 acres of public land from surface entry and mining for a period of 50 years and transfers administrative jurisdiction to the Forest Service to protect its investment in the development of a seed orchard. The land has been and will remain open to mineral leasing.

EFFECTIVE DATE: May 18, 2000.

FOR FURTHER INFORMATION CONTACT: Charles R. Roy, BLM Oregon/Washington State Office, P.O. Box 2965, Portland, Oregon 97208-2965, 503-952-6189.

By virtue of the authority vested in the Secretary of the Interior by section 204 of the Federal Land Policy and Management Act of 1976, 43 U.S.C. 1714 (1994), it is ordered as follows:

1. Subject to valid existing rights, the following described public land is hereby withdrawn from settlement, sale, location, or entry under the general land laws, including the United States mining laws (30 U.S.C. Ch. 2 (1994)), to protect the proposed investment of Federal funds and related facilities for the Forest Service's Desert Springs Seed Orchard:

Willamette Meridian

T. 33 S., R. 18 E.,

Sec. 11, E½SE¼.

The area described contains 80 acres in Lake County.

2. Administrative jurisdiction of the land described in Paragraph 2 is hereby transferred to the Forest Service.

3. The withdrawal made by this order does not alter the applicability of those public land laws governing the use of the land under lease, license, or permit, or governing the disposal of its mineral or vegetative resources other than under the mining laws.

4. This withdrawal will expire 50 years from the effective date of this order unless, as a result of a review conducted before the expiration date pursuant to Section 204(f) of the Federal Land Policy and Management Act of 1976, 43 U.S.C. 1714(f) (1994), the Secretary determines that the withdrawal shall be extended.

Dated: May 4, 2000.
Sylvia V. Baca,
Assistant Secretary of the Interior.

[FR Doc. 00-12478 Filed 5-17-00; 8:45 am]

BILLING CODE 4310-33-P